DEPARTMENT OF TRANSPORTATION

Federal Highway Administration

Environmental Impact Statement: St. Clair County, Michigan

AGENCY: Federal Highway Administration (FHWA), DOT.

ACTION: Notice of Intent.

SUMMARY: The FHWA is reissuing this notice to advise the public of changes to the Environmental Impact Statement that will be prepared for proposed improvements to the United States Port of Entry Plaza for the Blue Water Bridge in St. Clair County, Michigan. This Notice revises the published Notice of Intent of January 12, 2005.

FOR FURTHER INFORMATION CONTACT: Mr. James Kirschensteiner, Assistant Division Administrator, Federal Highway Administration, 315 W. Allegan Street, Room 201, Lansing, Michigan 48933, Telephone: (517) 702-1835; or Mr. Paul McAllister, Supervisor, Environmental Section, Bureau of Transportation Planning, Michigan Department of Transportation, P.O. Box 30050, Lansing, MI 48909, Telephone: (517) 335-2622.

SUPPLEMENTARY INFORMATION: The FHWA in cooperation with the Michigan Department of Transportation (MDOT) is preparing an Environmental Impact Statement (EIS) to evaluate alternatives for potential improvements to the United States Border Plaza at the Blue Water Bridge. The Federal cooperating agencies for the project include: U.S. Coast Guard, U.S. General Service Administration (GSA), U.S. Environmental Protection Agency (U.S.EPA), U.S. Army Corps of Engineers, and U.S. Customs and Border Protection (CBP).

The Blue Water Bridge is a major passenger and commercial border crossing between the United States and Canada and is the northern termination point for Interstate Routes I-69 and I-94 in the United States and for Highway 402 in Canada. MDOT owns and operates the Blue Water Bridge Border Plaza. Several agencies operate on the United States Plaza. These agencies are responsible for inspecting vehicles, goods, and people entering the United States and include: CBP, the United States Department of Agriculture (USDA), and the Food and Drug Administration (FDA). The inspection agencies lease facilities on the United States Plaza from MDOT through GSA, which serves as the Federal leasing agent. MDOT collects tolls from vehicles departing the United States for Canada on the plaza.

The study area is located within the City of Port Huron and Port Huron Township. The study area consists of approximately 30 blocks (195 acres) of urban land use surrounding the existing plaza and ramps, and it extends to the west along I-69/I-94 for approximately 2.2 miles. The study area includes the existing plaza, the Black River Bridge, the Water Street interchange, and locations for off-site inspection facilities, located north of I-69/I-94 and west of the Water Street Interchange.

In September 2002, this project started as an Environmental Assessment (EA) and has proceeded through the scoping phase, purpose and need documentation, and alternatives development. Three resource agency meetings and four public information meetings have been held. As a result of identified potentially significant impacts, FHWA and MDOT concluded that an environmental Impact Statement (EIS) should be completed.

The purposes of this Environmental Impact Statement are to:

• Accommodate projected 2030 traffic growth and potential future facility needs,

• Minimize backups on Highway 402 and I-69/I-94 and correct existing traffic weaving issues,

• Accommodate the latest inspection technologies and procedures,

• Provide flexibility to accommodate future unknown inspection technologies and procedures,

• Improve border security,

• Provide facilities that ensure cars and trucks do not leave the plaza without being inspected,

• Improve safety on the bridge, plaza, and I-69/I-94,

• Reduce vehicle and pedestrian conflicts on the plaza,

• Improve access between the plaza and the Port Huron area, and

• Minimize routing of commercial traffic to local roads during maintenance operations.

The need for improvements to the United States Plaza at the Blue Water Bridge is supported by several key issues including:

• Traffic growth and repeated traffic backups,

• Insufficient truck parking for inspection purposes,

• The introduction of new inspection technology,

• Emerging Security issues,

• Insufficient space for the increased number of border inspection agents,

• Traffic conflicts and crash history, and

• Inadequate connections between the plaza and local roads needing improvements.

In the fall of 2005, a preliminary Draft Environment Impact Statement (DEIS) was completed and circulated to the Federal cooperating agencies for review and comment. As a result of this coordination effort, the CBP requested that another alternative be considered for evaluation and inclusion in the DEIS.

In an effort to continue to move independent and critical road and bridge portions of the project forward, MDOT and FHWA have separated the Blue Water Bridge Plaza Study into two projects: (a) An EIS for the Blue Water Bridge Plaza that will focus specifically on plaza expansion and improvements, and (b) An Environmental Assessment that will address transportation improvements along I-69/I-94 and the creation of a new off-site welcome center. The improvements covered in the EA are independent of any of the alternatives under consideration for the plaza improvements. The FHWA has reviewed and concluded that the improvements that will be studied in the EA have independent utility and logical termini

The purposes of the I-69/I-94 EA Corridor improvements are:

• Accommodate projected 2030 traffic growth,

• Improve the safety on the Black River Bridge and reduce weaving movements at the Water Street Interchange,

• Replace the aging Black River Bridge spans,

• Improve vehicle access to the Port Huron Area, and

• Create a more visible and accessible Welcome Center.

The need for improvements to the I-69/I-94 Corridor is supported by several key issues:

• Traffic growth,

• Traffic backups,

• Traffic conflicts and crash history,

• The current condition of existing roadways in the corridor, and

• The current condition of the Black River Bridge.

The study boundaries for the I-69/I-94 Environmental Assessment are located along I-69/I-94 and the M-25 connector. The northern terminus for the EA is the M-25 connector intersection with Hancock Street and the southern terminus is the I-69/I-94 bridge over Lapeer Road. The EA study area includes the I-69/I-94 ramps to and from the existing plaza, the Black River Bridge, the Water Street interchange and the Lapeer connector interchange.

The purpose and need and study boundaries for the plaza Environmental Impact Statement remain the same as described earlier. The study area includes a potential location for a relocated plaza in Port Huron Township.

A range of plaza and transportation improvement alternatives for the plaza EIS, will be analyzed. Reasonable alternatives under consideration include: taking no action, expanding the existing plaza location in the City of Port Huron (two alternatives), and relocating the major plaza functions to an off-site plaza location in Port Huron Township. The EIS study area for the off-site plaza, along with subsequent improvements to I-94/I-69 and the EA improvements to I-94/I-69, overlap for this alternative, but only for this alternative.

Agencies and citizen involvement will continue to be solicited throughout this process. A public meeting and a public hearing will be held on the Draft Environmental Impact Statement (DEIS). Public notice will be given of the time and place of the hearing. The DEIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation of Federal programs and activities apply to this program.)

Issued on: October 31, 2006.
James A. Kirschensteiner,
Assistant Division Administrator, Lansing, Michigan.

[FR Doc. 06-9099 Filed 11-6-06; 8:45 am]

BILLING CODE 4910-22-M